POSTAL SERVICE

39 CFR Part 111

Hazardous Materials: Domestic Mail Manual Revisions for Division 6.2 Infectious Substances and Other Related Changes

ACTION: Final rule.

SUMMARY: In this final rule, the Postal Service adopts revisions to the mailing standards in Domestic Mail Manual (DMM) C023 related to the requirements and packaging standards for mailable types of Division 6.2 infectious substances. These DMM revisions adopt many of the regulatory and packaging changes for infectious substances that the U.S. Department of Transportation (DOT) made to Title 49 Code of Federal Regulations (49 CFR) in the Federal Register final rule published on August 14, 2002 (67 FR 53117-53144) and the subsequent change published on August 27, 2002 (67 FR 54967). As adopted by the Postal Service, these DMM revisions will provide a greater level of safety for handling and transporting mailable infectious substances in the mailstream. These changes will also facilitate domestic and international air transportation by aligning the Postal Service mailing standards with the current international standards for the transport of hazardous materials.

Other minor changes and clarifications are also adopted to the hazardous materials mailing standards in DMM C021, C023, C024, C050, and F010 to improve clarity and reduce misunderstandings; to ensure the packaging integrity of mailable hazardous materials during Postal Service handling; and to provide a greater level of safety for Postal Service employees and the public.

EFFECTIVE DATE: June 12, 2003. However, mailers using a business reply mail format for diagnostic (clinical) specimen mailpieces or a merchandise return service format for sharps waste or regulated medical waste mailpieces, are provided with a phase-in period through January 1, 2004.

FOR FURTHER INFORMATION CONTACT: Jane Stefaniak (703) 292-3548, Mailing Standards, United States Postal Service.

SUPPLEMENTARY INFORMATION: On December 19, 2002, the Postal Service published a proposed rule in the Federal Register (67 FR 77726-77737) that proposed revisions to the standards in DMM C023 for mailing Division 6.2 infectious substances. The proposal was initiated to align the Postal Service standards with the DOT Federal regulations in 49 CFR and to make other minor changes and clarifications to the related mailing standards in DMM C021, C023, C024, C050, and F010.

Part A of this document provides background information on why the Postal Service needs to adopt these changes. Part B identifies and responds to the comments received by the Postal Service on the proposed rule. Part C summarizes the changes adopted by the Postal Service in this final rule. The actual changes to the DMM appear at the end of this final rule.

Part A—Background Information

The carriage of U.S. mail by the United States Postal Service (Postal Service) is regulated by Title 39 Code of Federal Regulations (39 CFR). Unlike commercial carriers, the Postal Service is not subject to the Federal regulations of the U.S. Department of Transportation (DOT) in Title 49 Code of Federal Regulations (49 CFR). The Postal Service is, however, subject to the legal restrictions in Title 18 United States Code 1716 (18 U.S.C. 1716) which prohibits the mailing of * * *“ all disease germs, or scabs, and all other natural or artificial articles, compositions, or material which may kill or injure another, or injure the mails or other property”* * * if that matter is outwardly or of its own force dangerous to life, health, or property. Accordingly, for legal and safety reasons, the mailing standards for hazardous materials in the Domestic Mail Manual (DMM) not only closely adhere to the DOT regulations in 49 CFR, but also include many additional limitations and prohibitions.

In many instances, the Postal Service standards are more restrictive than the DOT requirements that apply to shipments being transported in domestic commerce. As an example, commercial shippers are permitted under the DOT regulations in 49 CFR to send certain types of flammable materials via air transportation. In contrast, the Postal Service prohibits the mailing of all flammable materials via air transportation.

Under Postal Service mailing standards, most hazardous materials are nonmailable. With few exceptions, the Postal Service generally limits the mailing of hazardous materials to only those materials that can be reclassified as an ORM-D material under the DOT Federal regulations in 49 CFR 173.144 and that can be renamed with the proper shipping name of “Consumer Commodity.” Additionally, mailable hazardous materials must meet the Postal Service quantity and packaging requirements, which in many instances are more restrictive than the DOT requirements in 49 CFR. Of all regulated hazardous materials, ORM-D materials present the lowest level of risk during handling and transportation.

Over the past few years, the Postal Service has encountered increasing difficulties with the commercial carriers who are contracted to provide air transportation services for the carriage of U.S. mail. Many carriers have refused to transport mailpieces containing mailable hazardous materials. In some instances, an air carrier has established a corporate policy not to carry hazardous materials. In other cases, an air carrier has refused to carry a specific type of hazardous material (e.g., diagnostic specimens) because Postal Service packaging standards, which met Federal standards, did not meet the international standards followed by the air carrier industry.

To ensure an acceptable level of safety and to facilitate domestic and international transportation, the Postal Service is adopting some of the regulatory and packaging changes for Division 6.2 infectious substances that DOT adopted as revisions to 49 CFR in the Federal Register (67 FR 53117-53144 and 67 FR 54967). The DOT changes are consistent with the current international standards found in the Technical Instructions for the Safe Transport of Dangerous Goods published by the International Civil Aviation Organization (ICAO).

It should also be noted that many of the DOT Federal regulations in 49 CFR involve requirements for the transport of hazardous materials that have moderate, high, or very high risk levels and that are shipped in very large quantities (exceeding 70 pounds in weight). Such hazardous materials are not permitted in the U.S. mail due to the legal restrictions in 18 U.S.C. 1716, concerns for employee and public safety, and Postal Service size and weight limitations. Accordingly, the Postal Service is adopting only the DOT regulations for Division 6.2 infectious substances that apply to materials that can be safely handled in the U.S. mail. As an example, the Postal Service will not adopt the new DOT bulk packaging options for regulated medical waste because under DOT regulations in 49 CFR, a bulk packaging is defined as a receptacle that has a capacity greater than 450L (119 gallons) for liquid materials or a net mass greater than 400 kg (882 pounds) for solid materials. As established by law, the maximum size and weight limits per mailpiece are 70 pounds and 108 inches in combined length and girth (130 inches for Parcel Post). A bulk packaging receptacle as defined by DOT is nonmailable in the U.S. mail because it exceeds the maximum size and weight limits for mailing and it also would pose an unacceptable risk level during Postal Service transport and handling.

Part B—Comments on the Proposed Rule

On December 19, 2002, the Postal Service published a proposed rule in the Federal Register (67 FR 77726-77737) that provided information on the revisions to the mailing standards in the DMM that the Postal Service proposed to adopt. The Postal Service solicited comments on the proposed rule from members of the general public and responses were received from nine parties. The parties represented: four authorized sharps mailers; three commercial medical laboratories that process diagnostic (clinical) specimens received through the mail; one institute comprised of two separate trade associations that represented members involved in private waste services and manufacturing businesses; and one law firm representing a group of manufacturers of healthcare products.

The comments received generally fell into one of the following four categories: comments on the proposed effective date; comments on the proposed rules for diagnostic (clinical) specimens; comments on the proposed rules for mailable types of regulated medical waste and sharps waste; and comments in support of the Postal Service proposed rule. A summary of the comments grouped by category is detailed in items 1 through 4.

1. Comments Related to the Effective Date of the Final Rule

Four commenters, including three of the sharps mailers and the institute, opposed the Postal Service proposal of an effective date of April 30, 2003. Two of the sharps mailers requested an effective date of six months after the date of the final rule, while the other two commenters requested an effective date of one year after the date of the final rule. All commenters felt that a delayed effective date was needed to allow them and their clients a sufficient amount of time in which to use up preexisting packaging that is already in circulation. The Postal Service agrees that a phase-in period is needed and in this final rule has adopted an effective date of June 12, 2003, with a phase-in period through January 1, 2004. This phase-in period will allow for mailer implementation of the new packaging requirements for diagnostic (clinical) specimen mailpieces using a business reply mail format and regulated medical waste or sharps waste mailpieces using a merchandise return service format.

2. Comments Related to the Proposed Changes Affecting Diagnostic (Clinical) Specimens

Four commenters, including the three medical laboratories and the law firm, submitted comments related to the proposed requirements for clinical specimens.

Two of the medical labs and the law firm all maintained that the Postal Service proposal to require placement of the biohazard symbol on the primary container of a Risk Group 1, 2 or 3 diagnostic (clinical) specimen was impractical. They noted that mailers would incur added costs to place the symbol on the primary container. One commenter also noted that under the Federal requirements issued by the U.S. Department of Occupational Health and Safety Administration (OSHA), the biohazard symbol is required to appear on the secondary container. For these reasons, in this final rule the Postal Service has changed the placement requirement for the biohazard symbol on Risk Group 1, 2, and 3 specimens. For mailable types of Risk Group 1, 2, and 3 specimens, the biohazard symbol is required to appear on the secondary packaging, except in the instance where the secondary packaging also serves as the outer shipping container for a Risk Group 1 specimen. In that instance, then the biohazard symbol must appear on the inner packaging or on the primary container. The biohazard symbol must not appear on the outer shipping container of a mailable Risk Group 1, 2, or 3 specimen.

One of the medical labs opposed the Postal Service proposal to include diagnostic (clinical) specimens in the description of Division 6.2 materials in DMM C023.8.1 because they felt it could be confusing to most mailers. The text in DMM C023.8.1 is intended to generally identify the items that are described under the category of Division 6.2, some of which are regulated as infectious substances, and some of which are not. The definition of a Division 6.2 material (infectious substance) is defined in DMM C023.8.2a, and that definition very closely mirrors the definition adopted by DOT in 49 CFR. The Postal Service does not feel that the general explanation in DMM C023.8.1 is confusing or misleading, but has made some minor changes to the text in the final rule for the purpose of clarity.

The same medical lab also asked whether it was the intent of the Postal Service to mirror the risk group classifications adopted by DOT. The answer is yes. The Postal Service believes this intent was clearly stated in the proposed rule, and it is also restated in Part C of this final rule. This commenter also asked whether the Postal Service classified all diagnostic (clinical) specimens collected for insurance purposes or through drug testing programs as Risk Group 1 materials. The Postal Service cannot make such a determination. In the proposed rule and in this final rule, the Postal Service has placed the responsibility for the proper determination of the Risk Group on the sender (i.e. generally the health care professional or individual who collects the specimen) as stated in DMM C023.8.2f. The Postal Service position on this point is in alignment with the stance DOT adopted in 49 CFR. The Postal Service suggests that packaging distributors include information to inform the collector of the specimen that the packaging may only be used to send Risk Group 1 specimens and that different packaging with stricter requirements must be used to send Risk Group 2, 3, or 4 specimens.

Another one of the medical labs that provided comments requested that the Postal Service clarify what materials are acceptable for a primary and secondary container holding a dry specimen. They also asked the Postal Service to clarify what would constitute a “securely sealed” primary receptacle in DMM C023.8.10b. Unlike the DOT regulations, the Postal Service proposed packaging requirements for dry clinical specimens since these types of specimens are routinely sent through the U.S. mail. Dry specimens often include materials such as saliva swabs, dried blood spots, and fecal smears. In the final rule, the Postal Service has made a few minor changes to the text for packaging a dry specimen in order to clarify the requirements. The Postal Service believes these changes are sufficient.

3. Comments Related to the Proposed Changes Affecting Regulated Medical Waste and Sharps Waste

Five parties, including the four sharps mailers and the institute, submitted comments related to the proposed changes affecting the mailing of regulated medical waste and sharps waste. For Postal Service purposes, regulated medical waste is defined in DMM C023.8.2e and sharps waste is defined in DMM C023.8.2g.

All four sharps mailers opposed the Postal Service proposal to limit the capacity of a sharps primary receptacle to a maximum of 3 gallons. Two commenters requested a limit of 5 gallons, one requested a limit of 11 gallons, and the other specified no maximum limit. Over the past few years, the Postal Service has experienced instances in which mailpieces containing sharps waste and having a 5-gallon primary receptacle have been found broken open in the mailstream. Although the number of incidents is small, the Postal Service believes that when properly designed and packaged prior to mailing, no approved sharps container should break open while in the mailstream. It was for this reason, and to ensure the safety of postal employees who handle these mailpieces, that the Postal Service proposed the new design requirement. The Postal Service does not agree with the commenters that a primary receptacle used to collect sharps (and designed for return via the U.S. mail) needs to be larger than 3 gallons in capacity. Most sharps container systems previously approved by the Postal Service have a primary receptacle with a capacity of less than 1 gallon. Primary receptacles having a capacity of 3 gallons or greater are not generally used to collect sharps waste for mail-back purposes, rather they are used to collect other types of nonsharps waste. Accordingly, the Postal Service will adopt a 3-gallon limit for a primary receptacle used to collect sharps waste as defined in DMM C023.8.2g and a 5-gallon limit for a primary receptacle used to collect regulated medical waste as defined in DMM C023.8.2e.

One sharps mailer opposed the Postal Service proposal to change the requirements for the secondary container for regulated medical waste and sharps waste packaging systems. The same sharps mailer also opposed the Postal Service proposal to prohibit easy-fold bottoms on outer shipping containers if they are not reinforced with a water-resistant tape. The commenter felt that the previous Postal Service requirement which allowed a secondary container to consist of a 3 mil plastic bag with a reinforced fiberboard sleeve (open on the top and bottom) was sufficient. They also felt that requiring a reinforced bottom on the outer shipping container was unnecessary and would increase their production costs. The Postal Service feels these changes are necessary for safety reasons. At least two incidents have occurred in which the bottom of an auto-fold style outer shipping container gave way during postal handling causing the bagged primary receptacle to slide out of the reinforced sleeve and through the bottom of the outer shipping container. In this situation, the only level of protection from the primary container was the 3 mil plastic bag, which increased the safety risk to postal employees. For this reason, the Postal Service adopts the packaging change for regulated medical waste and sharps waste mailpieces that requires the secondary container be completely enclosed in a watertight container or containment system. The secondary container may consist of more than one component. If one of the components is a plastic bag, it must be at least 3 mil thick and be used in conjunction with a strong and securely sealed fiberboard box. A plastic bag by itself will not meet the requirement for a secondary container. The Postal Service also adopts the packaging change for regulated medical waste and sharps waste mailpieces to require that the bottom of the outer shipping container and all joints and flaps be securely taped, glued, or stitched to maintain the integrity of the container. When tape or glue is used to secure an outer shipping container, the material must be water-resistant.

One sharps mailer and the institute commented that the Postal Service proposed definition of “regulated medical waste” should also include sharps. Both felt that the Postal Service should not maintain a separate category for sharps waste since DOT had no such distinction. One commenter further stated that if sharps waste were included in the definition of regulated medical waste, then the Postal Service would only need one set of packaging requirements and mailers would not have to use different marking requirements for mailpieces containing regulated medical waste and sharps waste. The Postal Service does not agree with those arguments. Since the Postal Service began allowing medical waste in the mail more than ten years ago, there has been, and continues to be, a great deal of concern involving the potential dangers associated with sharps waste should package failure occur during postal handling. The Postal Service has experienced a few instances in which a used syringe was found protruding from a sharps waste mailpiece that was not properly packaged prior to mailing. For this reason, the Postal Service will continue to maintain separate categories for sharps waste and other mailable types of regulated medical waste. This distinction will include separate requirements for the primary receptacles and different marking requirements for the outer shipping container. The Postal Service does not feel this will present a hardship on mailers since many already design and market their waste container systems for specific uses. It can also be noted that healthcare professionals generally do not mix sharps waste in the same containers used to collect other nonsharps medical waste.

Although not proposed by the Postal Service, one sharps waste mailer recommended the Postal Service require that sharps container systems be tested by “certified” labs, rather than by independent labs, as already permitted in DMM C023.8.7d. The Postal Service has not noted any significant problems with the use of independent labs, and therefore, sees no reason to adopt this recommendation. The problems associated with package failure of sharps waste container systems appear to be caused by container system design or the improper assembly of the container system by the end user prior to mailing.

The institute recommended that the Postal Service establish a “performance-based” standard for packaging rather than adopt new requirements for sealing the outer shipping container. The institute further suggested that the Postal Service allow a manufacturer or distributor to prove that their packaging material is safe when placed in the mail. We believe the commenter misinterpreted our intent and might not be aware of the preexisting requirements for package testing. The Postal Service has always required that packaging systems for sharps waste be tested by an independent testing facility using several of the tests detailed in 49 CFR part 178. Because the Postal Service has not experienced any significant problems with the test reports provided by the independent testing facilities, we do not feel there is a need to change the previously existing requirements for package testing. Additionally and as stated previously, the Postal Service will adopt new securing requirements for the outer shipping container to further reduce the potential for package failure during postal processing. The adoption of this requirement is directly related to specific instances of package failure that have occurred during postal handling.

The institute also recommended the that Postal Service require the assembly instruction sheet for each sharps container system also include a customer service telephone number for the end user to call if they need assistance or find a component part is missing. Although the Postal Service did not include this requirement in the proposed rule, it will adopt a variation of it in this final rule. The adopted text will require that each assembly sheet for a sharp waste or regulated medical waste container system list a customer service telephone number or provide specific information on where such a telephone number is located elsewhere on the container system. The Postal Service does not feel this will present a hardship for mailers, since many already display a customer service phone number on their assembly instruction sheets. The adoption of this requirement will help provide one more support level to the third-party end user who is being relied on to properly assemble the container system before depositing it into the mail. Proper assembly of a sharps container system prior to mailing is critical to ensuring it will be safely handled and transported without deterioration or package failure.

The institute further recommended that the Postal Service discontinue the use of the term “waste manifest” in the requirements that apply to the mailing of sharps waste and replace the term with “shipping paper.” The Postal Service did not propose this change and feels it is unnecessary. The text in DMM C023.8.7c(3) states that the waste manifest serves as the shipping paper. In addition, such a change could pose a hardship for regulated medical waste and sharps waste mailers who presently identify this document as a waste manifest, by causing them to incur the cost for redesigning and replacing the documents.

4. Comments Supporting the Proposed Changes

Seven of the commenters, including three sharps mailers, two medical labs, the institute, and the law firm, submitted comments that supported some of the requirements in the Postal Service proposed rule. Those comments are summarized in this section.

Two of the sharps mailers stated that they did not oppose the Postal Service proposal to limit the maximum weight of a mailpiece containing regulated medical waste or sharps waste to 25 pounds. Another further stated that, in general, they supported the Postal Service proposed rule.

One medical lab stated they were pleased with the Postal Service changes that would improve packaging integrity and they supported them. The commenter further stated that they approved of the text in DMM C023.8.10a that included the phrase “* * * for drug testing programs or for insurance purposes * * *” within the definition of the term diagnostic (clinical) specimen. The commenter stated that the slightly stricter packaging requirements would help to ensure their receipt of safely packaged specimens.

Three commenters, including one medical lab, the institute, and the law firm, supported the Postal Service effort to align the mailing standards with the DOT regulations in 49 CFR. These commenters felt that harmonization of the packaging requirements among all agencies and regulators would be a positive benefit for all mailers and shippers.

The institute also stated that they recognized and supported the continued role of the Postal Service in providing mailing options for senders of infectious substances and mail-back systems.

One medical lab stated they appreciated the Postal Service proposal to provide specific packaging requirements for dry specimens. They further noted they supported the development of mailing standards that benefit both the industry and the Postal Service.

Part C—Summary of Changes

In this final rule, the Postal Service adopts the following changes to the mailing standards in DMM C023.8.0 for Division 6.2 infectious substances:

• New classification criteria for Division 6.2 infectious substances based on the defining criteria developed by the World Health Organization (WHO) and consistent with the DOT Federal regulations in 49 CFR for domestic transport and the International Civil Aviation Organization (ICAO) technical instructions for international transport.

• New DOT packaging requirements that are applicable to the mailable types of Division 6.2 materials and consistent with the ICAO technical instructions. For safety reasons, in some instances the Postal Service volume limits are lower than the DOT limits.

• New DOT Federal requirements that regulate diagnostic (clinical) specimens in Risk Groups 2, 3, or 4 as hazardous materials.

• New DOT Federal requirements that do not regulate certain Risk Group 1 materials, including diagnostic (clinical) specimens, as hazardous materials.

• Revisions and modifications in the DOT Federal regulations related to the definitions of Division 6.2 materials and clarification of the use of the biohazard symbol on regulated and nonregulated material.

In addition, the Postal Service is adopting a few minor clarifications and changes to the hazardous materials standards in DMM C023 and certain related standards in DMM C021, C023, C024, C050, and F010. These changes will improve clarity in the standards and reduce misunderstandings. They will also improve packaging integrity for mailable types of regulated medical waste and sharps waste, and provide a greater level of safety during handling for both Postal Service employees and the public. These changes include:

• Minor revisions to the text in DMM C021 to improve clarity.

• Minor clarifications to the definitions in DMM C023.1.1 including added text in the definition for “air transportation requirements” to note that the Postal Service does not guarantee air transportation service for any class of mail. Air transportation service is usually provided for First-Class Mail®, Priority Mail®, and Express Mail® destined to zones 5 through 8; however, air transportation service is dependent on the ability of the Postal Service to procure an air carrier.

• Standardization of the terminology used in DMM C023 for identifying the different components required for the proper packaging of mailable hazardous materials.

• Expansion of the requirements in DMM C023.8.0 to establish that mailable types of regulated medical waste are subject to the same authorization requirements as sharps waste.

• Clarifications and minor changes to the requirements in DMM C023.8.0 for regulated medical waste and sharps waste containers to enhance the accuracy of the regulations and reduce misunderstanding of the standards. In addition, the Postal Service adopts additional limitations for regulated medical waste and sharps waste containers to ensure packaging integrity during Postal Service handling and to provide a greater level of safety for Postal Service employees and the public.

• Standardization of the maximum weight limit in DMM C023 for several different types of mailable hazardous materials as 25 pounds or less. This change affects nonflammable compressed gases, matches, regulated medical waste, sharps waste, and nonspillable wet batteries.

• Reinstatement of former DMM C024.18.0 (DMM Issue 56) with revised text to clarify the mailability of odd-shaped items in paper envelopes and to support the restrictions for harmful matter in DMM C021. Additional clarifying text is also added to DMM C050.2.2d.

• Revisions to DMM F010 that prohibit the use of the ancillary service endorsement “Change Service Requested” on Priority Mail, First-Class Mail, Standard Mail, and Package Services mail containing mailable hazardous materials under DMM C023. Also, a revision to require a return or forwarding endorsement on Standard Mail containing mailable hazardous materials.

These changes are effective June 12, 2003. However, mailers are provided with a phase-in period through January 1, 2004, for implementation of the new packaging requirements for diagnostic specimen mailpieces using a business reply mail format and medical waste mailpieces (including sharps waste) using a merchandise return service format. This time period will allow mailers to exhaust any existing packaging stock already in circulation.

The Postal Service believes that the adoption of the changes in this final rule will help to ensure an acceptable level of security and safety during Postal Service handling for the limited types and quantities of hazardous materials that are permitted in the U.S. mail.

Based on the proposed rule, and after careful consideration of the comments received, as described above, the Postal Service adopts the following changes to the Domestic Mail Manual, which are incorporated by reference in the Code of Federal Regulations. See 39 CFR part 111:

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of the Domestic Mail Manual (DMM) as follows:

Domestic Mail Manual (DMM)

* * * * *

C Characteristics and Content

C000 General Information

* * * * *

C020 Restricted or Nonmailable Articles and Substances

C021 Articles and Substances Generally

* * * * *

2.0 NONMAILABLE ARTICLES AND SUBSTANCES—GENERAL

2.1 Basic Information

[Delete the last two sentences of 2.1 and insert the following text to read as follows:]

* * *The mailability standards that apply to perishable, hazardous, and restricted matter are detailed in C022, C023, and C024, respectively. Publication 52, Hazardous, Restricted, and Perishable Mail, contains additional clarification and further describes the conditions of preparation and packaging under which the USPS accepts for mailing potentially harmful matter that is otherwise nonmailable. Publication 52 also contains detailed information on the mailability of specific hazardous materials.

* * * * *

3.0 INJURIOUS AND HARMFUL ARTICLES

3.1 General

Except as provided in this document, any article, composition, or material is nonmailable if it can kill or injure another or injure the mail or other property. Harmful matter includes but is not limited to:

* * * * *

[Revise item b to read as follows:]

b. All poisonous animals except scorpions mailed for medical research purposes or for the manufacture of antivenom; all poisonous insects; all poisonous reptiles; and all types of snakes, turtles, and spiders.

* * * * *

3.2 Hazardous Materials

[Revise the first sentence to read as follows:]

Harmful matter also includes regulated hazardous materials as defined in C023 that are likely to harm USPS employees or to destroy, deface, or otherwise damage mail or postal equipment.* * *

4.0 MARKING

* * * * *

4.2 Addressing

[Revise 4.2 to read as follows:]

For any matter mailed under the provisions in C020, the recipient's name and address must be affixed or applied directly to the mailpiece using a material or method that is not water-soluble and not easily smeared or rubbed off. Except for diagnostic specimen mailpieces using a business reply mail format and nonregulated materials, a return address that includes the sender's name and address must appear on all matter mailed under C020. The return address, when required, must be applied using a material or method that is not water-soluble and not easily smeared or rubbed off.

4.3 Warning Label

[Revise the last sentence in 4.3 to read as follows:]

* * *See C023 for the warning label requirements that apply to the mailing of hazardous materials.

* * * * *

C023 Hazardous Materials

Summary

[Revise the Summary to read as follows:]

C023 describes the general standards, restrictions, and prohibitions that apply to the mailability of hazardous materials.

1.0 GENERAL

1.1 Definitions

The following conditions apply:

[Revise the last sentence in item a to read as follows:]

a. * * *In international commerce, hazardous materials are known as dangerous goods.

[At the end of item b, add a new sentence to read as follows:]

b. * * *Almost all limited quantity materials are nonmailable.

[At the end of item c, add a new sentence to read as follows:]

c. * * *ORM-D materials having the proper shipping name of “consumer commodity” are mailable subject to USPS quantity and packaging standards.

* * * * *

[Revise items e and f to read as follows:]

e. Air transportation requirements, for the purposes of C023 only, apply to all mailable hazardous materials sent at the First-Class Mail, Priority Mail, or Express Mail rates. All mailable hazardous materials sent at those rates must meet the requirements that apply to air transportation. Mailable hazardous materials sent at any of those rates may or may not be transported via air depending on the distance between the point of origination and the point of destination, and the ability of the USPS to obtain an air carrier between those points.

f. Surface transportation requirements, for the purposes of C023 only, apply to all mailable hazardous materials sent at the Standard Mail or Package Services rates. All mailable hazardous materials sent at the Standard Mail or Package Services rates must meet the requirements that apply to surface transportation.

* * * * *

[Revise item h to read as follows:]

h. Secondary container is the packaging component into which the primary receptacle(s) and any required absorbent and cushioning material is securely placed. The packaging of certain mailable hazardous materials does not require the use of a secondary container.

[Revise item i to read as follows:]

i. Outer shipping container is the exterior packaging component into which a primary receptacle, along with any required absorbent and cushioning material, and the secondary container (if required) are securely placed. The outer shipping container bears the addressing information along with all required markings.

1.2 U.S. Department of Transportation

[Revise 1.2 to read as follows:]

The U.S. Department of Transportation (DOT) regulates the surface and air carriage of hazardous materials within the United States via any means of transportation. The DOT regulations for the transport of hazardous materials are codified in Title 49, Code of Federal Regulations (49 CFR) 100-185. USPS mailing standards for hazardous materials generally adhere to 49 CFR, but also include many additional limitations and prohibitions.

[Renumber current 1.3 through 1.9 as new 1.4 through 1.10 and insert new 1.3 to read as follows:]

1.3 USPS Standards

The USPS standards generally restrict the mailing of hazardous materials to ORM-D materials with the proper shipping name of “consumer commodity” that meet USPS quantity limitations and packaging requirements. The few non-ORM-D materials permitted to be mailed are subject to the standards in C023. Detailed information on the mailability of specific hazardous materials is contained in Publication 52, Hazardous, Restricted, and Perishable Mail.

1.4 Hazard Class

* * * * *

[Renumber “Exhibit 1.3 DOT Hazard Classes and Mailability Summary” as “Exhibit 1.4 DOT Hazard Classes and Mailability Summary.”]

* * * * *

1.6 Mailability Rulings

[In the first sentence, change “package” to “mailpiece.”]

1.7 Warning Labels

[Change “division 6.2 materials under 8.3” to “Division 6.2 materials under 8.5” and “as required in 1.7” to “as required in 1.8”.]

1.8 Package Markings

[Delete the last sentence in 1.8 and insert two new sentences to read as follows:]

* * *The designation “ORM-D” or “ORM-D AIR”, as required, must be placed within a rectangle that is approximately 6.3 mm (¼ inch) larger on each side than the designation. Mailable ORM-D materials sent as Standard Mail or Package Services must also be marked on the address side as “Surface Only” or “Surface Mail Only.”

1.9 Shipping Papers

[Revise 1.9 to read as follows:]

A shipper's declaration for dangerous goods (i.e., shipping paper) prepared under 49 CFR 172.200 through 172.205 is required for certain types of hazardous materials when mailed. The shipping paper must be completed and signed in triplicate by the mailer. It must be affixed to the outside of the mailpiece within an envelope or similar carrier that can be easily opened and resealed to allow viewing of the document. Shipping papers are required as follows:

a. Air transportation requirements. Except for nonregulated materials sent under 8.3 or 8.10 and diagnostic specimens sent under 8.6, mailpieces containing mailable hazardous materials sent at the First-Class Mail, Priority Mail, or Express Mail rates must include a shipping paper.

b. Surface transportation requirements. Except for nonregulated materials sent under 8.3 or 8.10 and mailable ORM-D materials, mailpieces containing mailable hazardous materials sent at the Standard Mail or Package Services rates must include a shipping paper.

1.10 Air Transportation Prohibitions

[Revise the first two sentences in 1.10 to read as follows (the remainder of 1.10 is unchanged):]

All mailable hazardous materials sent at the First-Class Mail, Priority Mail, or Express Mail rates must meet the requirements for air transportation. The following types of hazardous materials that are prohibited from carriage on air transportation must not be sent at the First-Class Mail, Priority Mail, or Express Mail rates:

* * * * *

2.0 EXPLOSIVES (HAZARD CLASS 1)

2.1 Definition

[In the second sentence, change “Exhibit 1.3” to “Exhibit 1.4”.]

2.2 Mailability

[In the second sentence, change “division 1.4” to “Division 1.4S.”]

3.0 GASES (HAZARD CLASS 2)

3.1 Definition

[In item b, change “division 2.1 or 2.3” to “Division 2.1 or 2.3”.]

3.2 Mailability

[In the second, third, and fourth sentences, change “division” to “Division.”]

3.3 Container

[Revise 3.3 to read as follows:]

An other-than-metal primary receptacle containing a mailable gas may be acceptable if the water capacity of the primary receptacle is 4 fluid ounces (7.22 cubic inches) or less per mailpiece and the primary receptacle meets 49 CFR requirements. Mailable nonflammable and flammable compressed gases are acceptable in metal primary receptacles that have a water capacity up to 33.8 fluid ounces (1 liter or 61.0 cubic inches), depending on their internal pressure. A DOT 2P container must be used as the primary receptacle if the internal pressure is from 140 to 160 psig at 130°F (55°C). A DOT 2Q container must be used as the primary receptacle if the pressure is from 161 to 180 psig at 130°F (55°C). A container with an internal pressure over 180 psig at 130°F (55°C) is prohibited from mailing. Mailable flammable compressed gases are restricted to 33.8 fluid ounces (1 liter) per mailpiece. Mailable nonflammable compressed gases are permitted in individual 33.8 fluid ounce (1 liter) containers that must be securely packed within an outer shipping container. Each mailpiece must not exceed a total weight of 25 pounds.

3.4 Marking

[In the first sentence, change “Surface Mail Only” to ““Surface Only” or “Surface Mail Only.””]

4.0 FLAMMABLE AND COMBUSTIBLE LIQUIDS (HAZARD CLASS 3)

* * * * *

4.2 Flammable Liquid Mailability

[In items a and b, change “secondary packaging” to “secondary container”; change “outer packaging” to “outer shipping container”; and change “Surface Mail Only” to ““Surface Only” or “Surface Mail Only.””]

4.3 Combustible Liquid Mailability

[In items a and b, change “secondary packaging” to “secondary container”; change “outer packaging” to “outer shipping container”; and change “Surface Mail Only” to “ “Surface Only” or “Surface Mail Only.” ”]

[Revise item c to read as follows:]

c. For air or surface transportation, if the flashpoint is above 200°F (93°C) the material is not regulated as a hazardous material. Such nonregulated materials must be properly and securely packaged to prevent leakage under the general packaging requirements in C010.

4.4 Cigarette Lighters

[In the second sentence, change “division 2.1” to “Division 2.1”.]

[In item c, change “Surface Mail Only” to “ “Surface Only” or “Surface Mail Only.” ”]

5.0 FLAMMABLE SOLIDS (HAZARD CLASS 4)

* * * * *

5.2 Mailability

[Change “outer packaging” to “outer shipping container” and change “Surface Mail Only” to “ “Surface Only” or “Surface Mail Only.” ”]

5.3 Matches

* * * * *

[Revise items c and d to read as follows:]

c. They are tightly packed in a securely sealed primary receptacle to prevent any shifting or movement that could cause accidental ignition by rubbing against adjoining items. The primary receptacle(s) is placed securely within an outer shipping container made of fiberboard, wood, or other equivalent material.

Multiple primary receptacles may be placed in a single outer shipping container. The address side of the mailpiece must be marked “Surface Only” or “Surface Mail Only”, and “Book Matches”, “Strike-on-Card Matches”, or “Card Matches”, as appropriate. A shipping paper is not required.

d. The gross weight of each mailpiece is not more than 25 pounds.

6.0 OXIDIZING SUBSTANCES, ORGANIC PEROXIDES (HAZARD CLASS 5)

* * * * *

6.2 Mailability

[Revise 6.2 to read as follows:]

Oxidizing substances and organic peroxides are prohibited in international mail. For domestic mail, a material that can qualify as an ORM-D material is permitted via air or surface transportation. Liquid materials must be enclosed within a primary receptacle having a capacity of 1 pint or less; the primary receptacle(s) must be surrounded by absorbent cushioning material and held within a leak-resistant secondary container that is packed within a strong outer shipping container. Solid materials must be contained within a primary receptacle having a weight capacity of 1 pound or less; the primary receptacle(s) must be surrounded with cushioning material and packed within a strong outer shipping container. Each mailpiece may not exceed a total weight of 25 pounds. The address side of each mailpiece must be plainly and durably marked with “ORM-D AIR” or “ORM-D,” as applicable, immediately following or below the proper shipping name. A mailable Class 5 material sent via surface transportation must be marked “Surface Mail” or “Surface Mail Only” on the address side. A mailable material sent via air transportation must bear a shipper's declaration for dangerous goods.

7.0 TOXIC SUBSTANCES (HAZARD CLASS 6, DIVISION 6.1)

7.1 Definitions

[In the first sentence, change “division 6.1” to “Division 6.1”.]

7.2 Mailability

[In the second sentence, change “division 6.1” to “Division 6.1”.]

7.3 Authorized Parties

[In the first sentence, change “division 6.1” to “Division 6.1”.]

7.4 Packaging and Marking

[In item a, change “inner receptacle(s)” to “primary receptacle(s)”; change “secondary packaging” to “secondary container”; change “outer packaging” to “outer shipping container”; and change “Surface Mail Only” to “ “Surface Only” or “Surface Mail Only.” ”]

[In item b, change “secondary leakproof (for liquids) or siftproof (for solids) packaging” to “leakproof (for liquids) or siftproof (for solids) secondary container”; change “secondary packaging” to “secondary container”; change “outer packaging” to “outer shipping container”; and change “Surface Mail Only” to “ “Surface Only” or “Surface Mail Only.” ”]

* * * * *

8.0 INFECTIOUS SUBSTANCES (HAZARD CLASS 6, DIVISION 6.2)

[Revise 8.0 to read as follows:]

8.1 General

The materials covered under Division 6.2 include infectious substances (i.e., etiologic agents), biological products, cultures and stocks, diagnostic (clinical) specimens, regulated medical waste, sharps waste, toxins, and used health care products. Division 6.2 materials are not permitted in international mail or domestic mail, except when they are intended for medical or veterinary use, research, or laboratory certification related to the public health; and only when such materials are properly prepared for mailing to withstand shocks, pressure changes, and other conditions related to ordinary handling in transit. Mailable Division 6.2 materials sent as international mail must meet the standards in International Mail Manual 135. For domestic mail, mailable Division 6.2 materials must meet the applicable standards in 8.0. Unless otherwise noted, all mailable Division 6.2 materials in Risk Groups 2, 3, or 4 must be prepared to meet the requirements for air transportation.

8.2 Definitions

The terms used in the standards for Division 6.2 materials are defined as follows:

a. Division 6.2 (infectious substance) means a material known to contain or suspected of containing a pathogen. A pathogen is a virus or microorganism (including its viruses, plasmids, or other genetic elements, if any) or a proteinaceous infectious particle (prion) that has the potential to cause disease in humans or animals. A Division 6.2 material must be assigned to a risk group as defined in 8.2f. Assignment to a risk group is based on the known medical condition and history of the source patient or animal, endemic local conditions, symptoms of the source patient or animal, or professional judgment concerning individual circumstances of the source patient or animal. Infectious substances are subject to applicable requirements in 42 CFR part 72 (Interstate Shipment of Etiologic Agents).

b. Biological product means a virus, therapeutic serum, toxin, antitoxin, vaccine, blood, blood component or derivative, allergenic product, or analogous product used in the prevention, diagnosis, treatment, or cure of diseases in humans or animals. A biological product includes a material manufactured and distributed in accordance with one of the following provisions: 9 CFR part 102 (Licenses for Biological Products); 9 CFR part 103 (Experimental Products, Distribution, and Evaluation of Biological Products Prior to Licensing); 9 CFR part 104 (Permits for Biological Products); 21 CFR part 312 (Investigational New Drug Application); 21 CFR part 314 (Applications for FDA Approval to Market a New Drug); 21 CFR part 600-680 (Biologics); or 21 CFR part 812 (Investigational Device Exemptions). A biological product known to contain or suspected of containing a pathogen in Risk Group 2, 3, or 4 must be classed as Division 6.2, described as an infectious substance, and assigned to UN 2814 or UN 2900, as appropriate, unless otherwise excepted by standard.

c. Cultures and stocks means a material prepared and maintained for growth and storage and containing a Risk Group 2, 3, or 4 infectious substance.

d. Diagnostic (clinical) specimen means any human or animal material, including excreta, secreta, blood and its components, tissue, and tissue fluids being transported for diagnostic or investigational purposes, but excluding live infected animals. A diagnostic specimen is not assigned a UN identification number unless the source patient or animal has or may have a serious human or animal disease from a Risk Group 4 pathogen, in which case it must be classed as Division 6.2, described as an infectious substance, and assigned to UN 2814 or UN 2900, as appropriate. Assignment to UN 2814 or UN 2900 is based on known medical condition and history of the patient or animal, endemic local conditions, symptoms of the source patient or animal, or professional judgment concerning individual circumstances of the source patient or animal.

e. Regulated medical waste, for USPS purposes, means a soft waste material (other than a sharp) known to contain or suspected of containing an infectious substance in Risk Group 2 or 3 and generated in the diagnosis, treatment, or immunization of human beings or animals; research on the diagnosis, treatment, or immunization of human beings or animals; or the production or testing of biological products. Soft medical waste includes items such as used rubber gloves, swabs, gauze, tongue depressors, etc. Regulated medical waste classified in Risk Group 4 is nonmailable.

f. Risk group means a ranking of a microorganism's ability to cause injury through disease. A risk group is defined by criteria developed by the World Health Organization (WHO) that are based on the severity of the disease caused by the organism, the mode and relative ease of transmission, the degree of risk to both an individual and a community, and the reversibility of the disease through the availability of known and effective preventive agents and treatment. There is no relationship between a risk group and a DOT packing group. Assignment to a risk group is based on the known medical condition and history of the source patient or animal, endemic local conditions, symptoms of the source patient or animal, or professional judgment concerning individual circumstances of the source patient or animal. The sender is responsible for accurately ranking a mailable material within the correct risk group. Exhibit 8.2f details the criteria for each risk group according to the level of risk.

Exhibit 8.2f Risk Group Criteria

Risk group | Pathogen | Risk to individuals | Risk to community
4 | A pathogen that usually causes serious human or animal disease and that can be readily transmitted from one individual to another, directly or indirectly, and for which effective treatments and preventive measures are not usually available | High | High.
3 | A pathogen that usually causes serious human or animal disease but does not ordinarily spread from one infected individual to another, and for which effective treatments and preventive measures are available | High | Low.
2 | A pathogen that can cause human or animal disease but is unlikely to be a serious hazard, and, while capable of causing serious infection on exposure, for which there are effective treatments and preventive measures available and the risk of spread of infection is limited | Moderate | Low.
1 | A microorganism that is unlikely to cause human or animal disease. A material containing only such microorganisms is not subject to regulation as a hazardous material, but it is subject to the packaging requirements in 8.10, unless otherwise noted in 8.0 | None or Very Low | None or Very Low.

g. Sharps, for USPS purposes, means any object contaminated with a pathogen or that may become contaminated with a pathogen through handling or during transportation and that is also capable of cutting or penetrating skin or a packaging material. Sharps include used medical waste such as needles, syringes, scalpels, broken glass, culture slides, culture dishes, broken capillary tubes, broken rigid plastic, and exposed ends of dental wires. Sharps waste classified in Risk Group 4 is nonmailable.

h. Toxin means a Division 6.1 material from a plant, animal, or bacterial source. A toxin containing an infectious substance or a toxin contained in an infectious substance must be classed as Division 6.2, described as an infectious substance, and assigned to UN 2814 or UN 2900, as appropriate.

i. Used health care product means a medical, diagnostic, or research device or piece of equipment, or a personal care product used by consumers, medical professionals, or pharmaceutical providers that does not meet the definition of a diagnostic specimen, biological product, regulated medical waste, or sharps waste, is contaminated with potentially infectious body fluids or materials, and is not decontaminated or disinfected to remove or mitigate the infectious hazard prior to transportation. A used health care product classified in Risk Group 4 is nonmailable.

8.3 Nonregulated Materials

The following materials are not subject to regulation as Division 6.2 hazardous materials and are mailable when the packaging requirements in 8.10 are met:

a. A diagnostic (clinical) specimen known to contain or suspected of containing a microorganism in Risk Group 1, or that does not contain a pathogen. Also, a diagnostic specimen in which the pathogen has been neutralized or inactivated so that exposure to it cannot cause disease.

b. A biological product known to contain or suspected of containing a microorganism in Risk Group 1, or that does not contain a pathogen. Also any biological product, including an experimental product or component of a product, subject to Federal approval, permit, or licensing requirements, such as those required by the Food and Drug Administration (FDA) of the Department of Health and Human Services (HHS) or the U.S. Department of Agriculture (USDA).

c. Blood collected for blood transfusion or the preparation of blood products; blood products; tissues intended for use in surgical procedures; and human cell, tissues, and cellular and tissue-based products regulated under authority of the Public Health Service Act and/or the Food, Drug, and Cosmetic Act. Also, blood collected for blood transfusion or the preparation of blood products and sent for testing as part of the collection process, except where the person collecting the blood has reason to believe it contains a pathogen in Risk Group 2 or 3, in which case the test sample must be packaged under 8.6.

d. A material, including a Division 6.2 waste, that previously contained an infectious substance that has been treated by steam sterilization, chemical disinfection, or other appropriate method, so it no longer meets the definition of an infectious substance in Risk Group 2, 3, or 4.

e. Forensic material in Risk Group 1 transported on behalf of a U.S. government, state, local, or Indian tribal government agency.

f. Environmental microbiological samples, such as samples of dust from a ventilation system or mold from a wallboard, collected to evaluate occupational and residential exposure risks.

8.4 Packaging—General

All materials mailable under the provisions in 8.0 must be properly packaged. Exhibit 8.4a lists the specific reference in 8.0 under which each type of mailable material must be packaged.

Exhibit 8.4A Packaging References for Materials Mailable Under 8.0

Exhibit 8.4a. Packaging References for Materials Mailable Under 8.0
Material | Risk group: 1 | Risk group: 2 | Risk group: 3 | Risk group: 4
Blood for Transfusion | 8.10 | 8.6 | 8.6 | nm
Biological Product | 8.10 | 8.5 | 8.5 | 8.5
Culture or Stock | 8.10 | 8.5 | 8.5 | 8.5
Diagnostic Specimen | 8.10 | 8.6 | 8.6 | 8.5
Division 6.2 (Infectious Substance) | 8.10 | 8.5 | 8.5 | 8.5
Forensic Material | 8.10 | 8.9 | 8.9 | 8.5
Regulated Medical Waste | 8.7 | 8.7 | 8.7 | nm
Sharps Waste | 8.7 | 8.7 | 8.7 | nm
Toxin (Division 6.2) | 8.10 | 8.5 | 8.5 | 8.5
Treated Medical Waste | 8.10 | n/a | n/a | n/a
Used Health Care Product | 8.8 | 8.8 | 8.8 | nm
nm—nonmailable.
n/a—not applicable.

8.5 Packaging of Division 6.2 Infectious Substances

Division 6.2 materials include infectious substances (etiologic agents), biological products, cultures or stocks, and toxins known or suspected to contain a Risk Group 2, 3, or 4 pathogen. It also includes diagnostic specimens known or suspected to contain a Risk Group 4 pathogen. The packaging of Division 6.2 infectious substances is subject to these standards:

a. All Division 6.2 materials must meet the packaging requirements in 49 CFR 173.196. Either the primary receptacle or the secondary container must be capable of withstanding, without leakage, an internal pressure that produces a pressure differential of not less than 0.95 bar, 14 psi (95 kPa), and temperatures in the range of −40°F to 131°F (−40°C to 55°C) as required by 49 CFR 173.196.

b. The material must be packaged in a securely sealed and watertight primary receptacle (test tube, vial, etc.) that is enclosed in another watertight and durable secondary container that is securely sealed. Several primary receptacles may be enclosed in the secondary container if there is adequate cushioning material between them to prevent breakage during normal handling, and if the total volume of the material in all enclosed primary receptacles does not exceed 50 ml for liquids or 50 g for solids. The primary receptacle(s) and the secondary container must be marked with the international biohazard symbol as shown in Exhibit 8.7c(2).

c. The space between the primary receptacle(s) and the secondary container at the top, bottom, and sides must contain enough absorbent material to take up the entire contents of the primary receptacle(s) in case of breakage or leakage.

d. The primary receptacle(s) and the secondary container must be securely enclosed in an outer shipping container constructed of fiberboard or other equivalent material. No external surface of the outer shipping container may be less than 3.9 inches (100 mm) as required by 49 CFR 173.196. An itemized list of the contents of the primary receptacle(s) must be enclosed between the secondary container and the outer shipping container.

e. Each mailpiece must be designed and constructed so that, if it were subject to the environmental and test conditions in 49 CFR 178.609, there would be no release of the contents to the environment and no significant reduction in the effectiveness of the packaging.

f. All mailpieces sent under 8.5 must be sent First-Class Mail or Priority Mail and must be marked on the address side with the proper shipping name and UN number of the material (e.g., “UN 2814, Infectious Substances, Affecting Humans” or “UN 2900, Infectious Substances, Affecting Animals”). Each mailpiece must bear a DOT Class 6 label for infectious substances (etiologic agents), proper UN package specification markings, and orientation markings. A shipping paper is required. Any mailpiece classified as a Risk Group 4 material and that contains any of the select agents or toxins listed in 42 CFR 73.4 or 73.5 must meet all requirements in 42 CFR 72 and must also be sent using Registered Mail service.

g. Articles that include dry ice as a refrigerant for the infectious substance must meet the requirements in 49 CFR 173.196(b)(2)(ii).

8.6 Packaging for Diagnostic Specimens in Risk Group 2 or 3

A diagnostic (clinical) specimen known or suspected to contain a Risk Group 4 pathogen must be packaged under 8.5. A diagnostic specimen classified in Risk Group 1 must be packaged under 8.10. A diagnostic specimen classified in Risk Group 2 or 3 and that meets the definition in 8.2d must be sent as First-Class Mail, Priority Mail, or Express Mail. Such materials must be packaged in a triple packaging, consisting of a primary receptacle, secondary container, and outer shipping container, subject to the following specific requirements:

a. Liquid Diagnostic (Clinical) Specimens.

(1) The specimen must be contained in a leakproof and securely sealed primary receptacle. A single primary receptacle may not contain more than 500 ml of a specimen. Multiple primary receptacles are permitted in a single mailpiece if the mailpiece does not contain more than 4,000 ml. The primary receptacle(s) must be surrounded with sufficient cushioning material to withstand shock and pressure changes and with absorbent material capable of taking up the entire liquid contents should the primary receptacle(s) leak.

(2) The primary receptacle(s) and the absorbent material must be securely packed within a secondary container in such a way that, under normal conditions of transport, the primary receptacle cannot break, be punctured, or leak its contents into the secondary container.

(3) The secondary container must be leakproof, securely sealed, and placed within a strong outer shipping container having suitable cushioning material such that any leakage of the contents does not impair the protective properties of the cushioning material or the outer shipping container. The secondary container must be marked with the international biohazard symbol as shown in Exhibit 8.7c(2).

(4) The primary receptacle(s) or the secondary container must be capable of withstanding, without leakage, an internal pressure producing a pressure differential of not less than 0.95 bar, 14 psi (95 kPA). The completed mailpiece must be capable of successfully passing the drop test in 49 CFR 178.603 at a drop height of at least 1.2 meters (3.9 feet). The address side of the outer shipping container must be clearly and durably marked “Diagnostic Specimen.” A shipping paper is not required.

b. Solid (or Dried) Diagnostic Specimens.

(1) The primary receptacle must be siftproof with a capacity of not more than 500 g (1.1 pounds).

(2) If several fragile primary receptacles are placed in a single secondary container, they must be individually wrapped or separated with sufficient cushioning material to prevent contact between them. The secondary container must be siftproof to contain the contents should the primary receptacle(s) leak. The secondary container must be marked with the international biohazard symbol as shown in Exhibit 8.7c(2).

(3) The outer shipping container may not exceed 4 kg (8.8 pounds) capacity. The outer shipping container must be clearly and durably marked “Diagnostic Specimen.” A shipping paper is not required.

8.7 Sharps Waste and Other Mailable Regulated Medical Waste

Regulated medical waste and sharps waste known to contain or suspected of containing an infectious substance in Risk Group 4 are nonmailable. Regulated medical waste and sharps waste as defined in 8.2e and 8.2g, respectively, and classified in Risk Group 1, 2, or 3 are permitted for mailing only using merchandise return service (see S923) with First-Class Mail or Priority Mail, subject to the following requirements:

a. Authorization. Each distributor or manufacturer of a complete regulated medical waste or sharps waste mailing container system (including all component parts required to safely mail such waste to a storage or disposal facility) must obtain authorization from the USPS prior to mailing. Before applying for authorization, each type of mailing container system must be tested and certified under the standards in 8.7d by an independent testing facility. The manufacturer or distributor in whose name the authorization is being sought must submit a written request to the manager, Mailing Standards, USPS Headquarters (see G043 for address). The request for authorization must contain the following:

(1) An irrevocable $50,000 surety bond or letter of credit as proof of sufficient financial responsibility to cover disposal costs if the manufacturer (or distributor) ceases doing business before all its waste container systems are disposed of or to cover cleanup costs if spills occur while the containers are in USPS possession. The surety bond or letter of credit must be issued in the name of the manufacturer or distributor seeking the authorization and must name the USPS as the beneficiary or obligee, as appropriate.

(2) Address of the headquarters or general business office of the distributor or manufacturer seeking the authorization.

(3) Address of each disposal and storage site.

(4) List of all types of mailing container systems to be covered by the request, a complete sample of each mailing container system, and proof of package testing certifications performed by the independent testing facility that subjected the packaging materials to the testing requirements in 8.7d.

(5) Copy of the proposed waste manifest (i.e., shipping paper) to be used with each mailing container system.

(6) 24-hour toll free telephone number for emergencies.

(7) List of the types of waste to be mailed for disposal in each mailing container system.

(8) Copy of the merchandise return service label to be used with each mailing container system.

b. Packaging. Regulated medical waste and sharps waste in Risk Group 4 are nonmailable. A waste material treated by steam sterilization, chemical disinfection, or other appropriate method, so it no longer meets the definition of an infectious substance in Risk Group 2, 3, or 4, must be packaged under 8.10. The packaging for regulated medical waste and sharps waste in Risk Group 1, 2, or 3 is subject to these standards:

(1) Regulated medical waste and sharps waste meeting the definitions in 8.2e and 8.2g, respectively, must be collected in a rigid, securely sealed, and leakproof primary receptacle. For sharps waste, the primary receptacle must also be puncture-resistant and may not have a maximum capacity that exceeds 3 gallons in volume. For regulated medical waste, the primary receptacle may not have a maximum capacity that exceeds 5 gallons in volume. Each primary receptacle may not contain more than 50 ml (1.66 ounces) of residual waste liquid. Each primary receptacle must display the international biohazard symbol shown in Exhibit 8.7c(2). Each primary receptacle must maintain its integrity when exposed to temperatures between 0° and 120°F.

(2) The primary receptacle must be packaged within a watertight secondary container or containment system. The secondary container may consist of more than one component. If one of the components is a plastic bag, it must be at least 3 mil in thickness and be used in conjunction with a strong fiberboard box. A plastic bag by itself does not meet the requirement for a secondary container. Several primary receptacles may be enclosed in a secondary container. The primary receptacle(s) must fit securely and snugly within the secondary container to prevent breakage during ordinary processing.

(3) The secondary container must be enclosed in a strong outer shipping container constructed of 200-pound grade corrugated fiberboard. The joints and flaps of the outer shipping container must be securely taped, glued, or stitched to maintain the integrity of the container. When tape or glue is used to secure an outer shipping container, the material must be water-resistant. Fiberboard boxes with interlock bottom flaps (i.e., easy-fold) are not permitted as outer shipping containers unless reinforced with water-resistant tape. The secondary container must fit securely and snugly within the outer shipping container to prevent breakage during ordinary processing.

(4) There must be enough material within a watertight barrier to absorb and retain three times the total liquid allowed within the primary receptacle (150 ml per primary receptacle) in case of leakage.

(5) Each mailpiece must not weigh more than 25 pounds.

(6) In each mailing container system, the authorized manufacturer or distributor must include a step-by-step instruction sheet that clearly details the proper sequence and method of container system assembly prior to mailing to prevent package failure during transport due to improper assembly. The instruction sheet must also include a customer service telephone number, or provide specific information on where such a telephone number is located elsewhere on the container system, for third-party end users to contact if they have assembly questions or find a component part is missing.

c. Mailpiece Labeling, Marking, and Documentation. Regulated medical waste and sharps waste must meet the following requirements:

(1) Each primary receptacle and outer shipping container must bear a label, which cannot be detached intact, showing: (a) The company name of the manufacturer or the distributor to which the mailing authorization is issued; (b) the USPS Authorization Number, and; (c) the container ID number (or unique model number) signifying that the packaging material is certified and that the manufacturer or distributor obtained the authorization required by 8.7a.

(2) The primary receptacle(s) and the outer shipping container must bear the international biohazard symbol in black with either a fluorescent orange or fluorescent red background as shown in Exhibit 8.7c(2).

(3) Each mailpiece must have a four-part waste manifest, which also serves as the shipping paper. The manifest must be affixed to the outside of the mailpiece in an envelope or similar carrier that can be easily opened and resealed to allow review of the document. The manifest must comply with all applicable requirements imposed by the laws of the state from which the container system is mailed. At a minimum, the information in Exhibit 8.7c(3) must be on the manifest.

Exhibit 8.7c(3)
Manifest for Regulated Medical Waste and Sharps Waste Containers
1. Generator (Mailer):
a. Name.
b. Complete address (not a Post Office box).
c. Telephone number.
d. Description of contents of mailing container. “Regulated Medical Waste” or “Regulated Medical Waste—Sharps” is required as appropriate.
e. Date container was mailed.
f. State permit number of approved facility in which contents are to be disposed of.
2. Destination Facility (Disposal Site)
Complete address (not a Post Office box).
3. Generator's (Mailer's) Certification
The following certification statement must be printed on manifest: “I certify that this container has been approved for the mailing of [insert either “regulated medical waste” or “sharps waste,” as appropriate], has been prepared for mailing in accordance with the directions for that purpose, and does not contain excess liquid or nonmailable material in violation of the applicable Postal Service regulations. I AM AWARE THAT FULL RESPONSIBILITY RESTS WITH THE GENERATOR (MAILER) FOR ANY VIOLATION OF 18 USC 1716 WHICH MAY RESULT FROM PLACING IMPROPERLY PACKAGED ITEMS IN THE MAIL. I also certify that the contents of this consignment are fully and accurately described above by proper shipping name and are classified, packed, marked, and labeled, and in proper condition for carriage by air according to the national governmental regulations.”
This statement must be followed by printed or typewritten name of generator (mailer), signature of generator, and date signed.
4. Destination Facility (Storage or Disposal Site)
The following certification statement of receipt, treatment, and disposal must be printed on manifest: “I certify that the contents of this container have been received, treated, and disposed of in accordance with all local, state, and federal regulations.”
This statement must be followed by printed or typewritten name of an authorized recipient at destination facility, signature of authorized recipient, and date signed.
5. Transporter Intermediate Handler Other Than the Postal Service (If Different From Destination Facility)
a. Name.
b. Complete address (not a Post Office box).
c. Printed or typewritten name of transporter or intermediate handler.
d. Signature of transporter or intermediate handler and date signed.
6. Serialized Waste Manifests
Each waste manifest or mail disposal service shipping record must be serialized using a unique numbering system for identification purposes.
7. Comment Area
Each manifest must contain an area designated for entering comments or noting discrepancies.
8. Completion and Distribution of Waste Manifest
Each manifest must contain instructions for properly completing the four-part form. Copies of the form must be distributed as follows:
a. One copy must be kept by generator (mailer).
b. One copy must be kept by transporter or intermediate handler for 90 days.
c. One copy must be kept by destination facility for 90 days.
d. One copy must be mailed to generator by destination facility.
9. Emergency Telephone Number
Each manifest must bear the following statement with appropriate information: “IN CASE OF EMERGENCY, OR THE DISCOVERY OF DAMAGE OR LEAKAGE, CALL 1-800-###-####.”

(4) The outer shipping container must bear a properly prepared merchandise return service label (see S923). The merchandise return service permit must be held in the same name as that of the authorized medical waste mailer.

(5) The outer shipping container must be marked on two opposite side walls with the package orientation marking in 49 CFR 173.312 to identify the proper upright position of the mailpiece during handling.

(6) Mailpieces containing regulated medical waste or sharps waste must be marked on the address side with the correct UN number and proper shipping name (e.g., “Regulated Medical Waste, UN 3291” or “Regulated Medical Waste—Sharps, UN 3291”).

d. Package Testing. Testing must be performed by an independent testing facility on one sample of each type of mailing container system to prove compliance with 8.7a. The sample mailing container system must withstand the tests in 49 CFR 178.604 (leakproof test), 178.606 (stacking test), 178.608 (vibration standard), and 178.609(e), (f), and (h) (test requirements for packaging for infectious substances). In addition, the absorbent material must withstand an absorbency test that satisfies the requirements in 8.7b(4). The test results must show that if every container system prepared for mailing were to be subject to the environmental and test conditions in 49 CFR, there would be no release of the contents to the environment and no significant reduction in the effectiveness of the packaging. Periodic retesting must be performed whenever a change is made to the design of the container system or every 24 months, whichever occurs first.

8.8 Packaging of Used Health Care Products

A used health care product known or suspected to contain a Risk Group 4 pathogen is nonmailable. A used health care product meeting the definition in 8.2i, classified in Risk Group 1, 2, or 3, and being returned to the manufacturer or manufacturer's designee is mailable as First-Class Mail, Priority Mail, or Express Mail subject to the following packaging requirements:

a. Each used health care product must be drained of liquid to the extent possible and placed in a watertight primary receptacle designed and constructed to ensure that it remains intact under normal conditions of transport. For a used health care product capable of cutting or penetrating skin or packaging material, the primary receptacle must be capable of retaining the product without puncture of the packaging under normal conditions of transport. The primary receptacle must be marked with the international biohazard symbol as shown in Exhibit 8.7c(2).

b. Each primary receptacle must be placed inside a watertight secondary container designed and constructed to ensure that it remains intact under normal conditions of transport. The secondary container must also be marked with the international biohazard symbol as shown in Exhibit 8.7c(2).

c. The secondary container must be placed inside an outer shipping container with sufficient cushioning material to prevent movement between the secondary container and the outer shipping container. An itemized list of the contents of the primary receptacle and information concerning possible contamination with a Division 6.2 material, including its possible location on the product, must be placed between the secondary container and the outer shipping container. A shipping paper and a content marking on the outer shipping container are not required.

8.9 Packaging of Forensic Material in Risk Groups 2 and 3

Forensic material in Risk Group 1 sent on behalf of a U.S. government, state, local, or Indian tribal government agency must be packaged under 8.10. Forensic material known or suspected to contain a Risk Group 4 infectious substance must be packaged under 8.5. Forensic material known or suspected to contain a Risk Group 2 or 3 pathogen is mailable as First-Class Mail, Priority Mail, or Express Mail when packaged in a triple packaging, consisting of a primary receptacle, secondary container, and outer shipping container as follows:

a. The forensic material must be held within a securely sealed primary receptacle. The primary receptacle must be surrounded by sufficient absorbent material (for liquids) and cushioning material to protect the primary container from breakage. The absorbent material must be capable of taking up the entire liquid contents of the primary receptacle in case of leakage. The primary receptacle must be marked with the international biohazard symbol as shown in Exhibit 8.7c(2).

b. The primary receptacle and the absorbent and cushioning material must be enclosed in a watertight and securely sealed secondary container. The secondary container must also display the international biohazard symbol as shown in Exhibit 8.7c(2).

c. The secondary container must be firmly and snugly packed within a strong outer shipping container that is securely sealed. A shipping paper and a content marking on the outer shipping container are not required.

8.10 Packaging for Risk Group 1 Materials

Division 6.2 materials in Risk Group 1 are not subject to regulation as hazardous materials (see 8.3), but when presented for mailing they must be properly packaged. Regulated medical waste, sharps waste, and used health care products classified in Risk Group 1 must be packaged and mailed under the applicable requirements in 8.7 or 8.8. All other Risk Group 1 materials are mailable as First-Class Mail, Priority Mail, Express Mail, or Package Services. Such materials must be held within a securely sealed primary receptacle. The primary receptacle must be surrounded by sufficient absorbent material (for liquids) and cushioning material to protect the primary receptacle from breakage. The absorbent material must be capable of taking up the entire liquid contents of the primary receptacle in case of leakage. Either the primary receptacle or the inner packaging must be marked with the international biohazard symbol as shown in Exhibit 8.7c(2). The primary receptacle and the absorbent and cushioning material must be snugly enclosed in a strong outer shipping container that is securely sealed. A shipping paper and a content marking on the outer shipping container are not required. Risk Group 1 diagnostic specimens and biological products are subject to the following packaging standards:

a. Liquid Diagnostic (Clinical) Specimens and Biological Products. A diagnostic (clinical) specimen in Risk Group 4 or a biological product in Risk Group 2, 3, or 4 must be packaged under 8.5. A diagnostic specimen in Risk Group 2 or 3 must be packaged under 8.6. The packaging of a diagnostic specimen in Risk Group 1 (e.g., a urine specimen or blood specimen used in drug-testing programs or for insurance purposes) or a biological product (e.g., polio vaccine) in Risk Group 1 is subject to the following standards:

(1) Not Exceeding 50 ml. A diagnostic specimen or biological product consisting of 50 ml or less per mailpiece must be packaged in a securely sealed primary receptacle. Two or more primary receptacles whose combined volume does not exceed 50 ml may be enclosed within a single mailpiece. Sufficient absorbent material and cushioning material to withstand shock and pressure changes must surround the primary receptacle(s), or be otherwise configured to take up the entire liquid contents in case of leakage. The primary receptacle(s) and the absorbent cushioning must be enclosed in a secondary container having a leakproof barrier that can prevent failure of the secondary container if the primary receptacle(s) should leak during transport. The secondary container must be securely sealed and it may serve as the outer shipping container provided it has sufficient strength to withstand ordinary postal processing. The secondary container must be marked with the international biohazard symbol as shown in Exhibit 8.7c(2), except when the secondary packaging also serves as the outer shipping container. In that case, the biohazard symbol must appear either on the inner packaging or on the primary container. A shipping paper and a content marking on the outer shipping container are not required.

(2) Exceeding 50 ml. A clinical specimen or biological product that exceeds 50 ml must be packaged in a securely sealed primary receptacle. A single primary receptacle must not contain more than 500 ml of specimen. Two or more primary receptacles whose combined volume does not exceed 500 ml may be enclosed in a single secondary container. Sufficient absorbent material and cushioning material to withstand shock and pressure changes must surround the primary receptacle(s), or be otherwise configured to take up the entire liquid contents in case of leakage. The primary receptacle(s) and the absorbent cushioning must be enclosed in a secondary container having a leakproof barrier that can prevent failure of the secondary container if the primary receptacle(s) should leak during transport. The secondary container cannot serve as the outer shipping container. The secondary container must be marked with the international biohazard symbol as shown in Exhibit 8.7c(2). The secondary container must be securely and snugly enclosed in a fiberboard box or container of equivalent strength that serves as the outer shipping container. The maximum amount of a specimen that may be enclosed in a single mailpiece must not exceed 4,000 ml. A shipping paper and a content marking on the outer shipping container are not required.

b. Solid (or Dried) Specimens. A solid or dry specimen, such as a saliva swab, blood spot, or fecal smear in Risk Group 1 must be completely dried prior to placing it in or on a secure primary receptacle. Cushioning material to withstand shock and pressure changes is only required if the dry specimen is held in a breakable primary receptacle. When required, the cushioning material must surround the primary receptacle to prevent breakage or damage to the primary receptacle. The primary receptacle (and cushioning material, if required) must be enclosed in a secondary container having a leakproof barrier that can prevent failure of the secondary container if the primary receptacle breaks during shipment. The secondary container must be securely sealed and it may serve as the outer shipping container provided it has sufficient strength to withstand ordinary postal processing. The secondary container must be marked with the international biohazard symbol as shown in Exhibit 8.7c(2), except when the secondary packaging also serves as the outer shipping container. In that case, the biohazard symbol must appear either on the inner packaging or on the primary container. A shipping paper and a content marking on the outer shipping container are not required.

9.0 RADIOACTIVE MATERIALS (HAZARD CLASS 7)

[Change “Publication 52, Acceptance of Hazardous, Restricted, or Perishable Matter” to “Publication 52, Hazardous, Restricted, or Perishable Mail.”]

10.0 CORROSIVES (HAZARD CLASS 8)

* * * * *

10.2 Mailability

[In item a, change “secondary packagings” to “secondary containers”; change “secondary packaging” to “secondary container”; and change “outer packaging” to “outer shipping container”.]

[In item b, change “secondary packaging” to “secondary container” and change “outer packaging” to “outer shipping container”.]

10.3 Marking

[In the first sentence, change “Surface Mail Only” to “ “Surface Only” or “Surface Mail Only.” ”]

10.4 Nonspillable Wet Electric Storage Batteries

* * * * *

[Revise item a to read as follows:]

a. The nonspillable battery must be protected from short circuits, surrounded with sufficient cushioning material, and securely packaged in a strong fiberboard box that serves as the outer shipping container.

[In item b, change “outer packaging” to “outer shipping container”.]

* * * * *

[In item d, change “50 pounds” to “25 pounds.”]

11.0 MISCELLANEOUS HAZARDOUS MATERIALS (HAZARD CLASS 9)

11.1 Definition

[In the second sentence, remove “magnetized materials,”.]

* * * * *

11.3 Marking

[In the first sentence, change “Surface Mail Only” to “ “Surface Only” or “Surface Mail Only.” ”]

11.4 Dry Ice

[In item a, change the heading “Air Transportation” to “Air Transportation Requirements.”]

[In item b, change the heading “Surface Transportation” to “Surface Transportation Requirements”. Also change “Surface Mail Only” to “ “Surface Only” or “Surface Mail Only.” ”]

* * * * *

[Renumber current 11.5 as new 12.0 to read as follows:]

12.0 OTHER REGULATED MATERIALS—MAGNETIZED MATERIALS

[Change the introductory paragraph in new 12.0 to read as follows (the remainder of new 12.0 is unchanged):]

A magnetized material is not classified within any of the nine hazard classes. Such material is regulated as a hazardous material only if offered for carriage on air transportation and when it has a magnetic field strength capable of causing the deviation of aircraft instruments. Regulated magnetized materials are mailable subject to the following limitations:

a. Definition.

[In the second sentence in item a, change “a hazard class 9 material” to “a hazardous material.”]

b. Mailability.

[In the third sentence in item b, change “Publication 52” to “Publication 52, Hazardous, Restricted, and Perishable Mail.”]

* * * * *

C024 Other Restricted or Nonmailable Matter

* * * * *

[Renumber current 18.0 and 19.0 as new 19.0 and 20.0, and insert new 18.0 to read as follows:]

18.0 ODD-SHAPED ITEMS IN PAPER ENVELOPES

Pens, pencils, key rings, bottle caps, and other similar odd-shaped items are not permitted in letter-size or flat-size paper envelopes unless they are wrapped within the other contents of the envelope to streamline the shape of the mailpiece and prevent damage during postal processing. If an odd-shaped item is not properly wrapped, it could burst through the envelope and cause injury to employees and damage to USPS processing equipment. Odd-shaped items that are properly wrapped within paper envelopes and sent at the First-Class Mail or Standard Mail nonautomation rates may be subject to the nonmachinable surcharge under E130 or E620, as applicable. Certain types of odd-shaped items, when properly wrapped, are permitted as automation rate letter-size mail subject to the standards in C810. Flat-size automation rate mail is subject to the uniform thickness requirement in C820.

* * * * *

C050 Mail Processing Categories

* * * * *

2.0 LETTER-SIZE MAIL

* * * * *

2.2 Nonmachinable Criteria

A letter-size piece is nonmachinable if it has one or more of the following characteristics (see C010.1.3 to determine the length, height, top, and bottom of a mailpiece):

* * * * *

[Revise item d by adding a reference to C024.18.0 to read as follows:]

d. Contains items such as pens, pencils, or loose keys or coins that cause the thickness of the mailpiece to be uneven (see C024.18.0).

* * * * *

F Forwarding and Related Services

F000 Basic Services

F010 Basic Information

* * * * *

5.0 CLASS TREATMENT FOR ANCILLARY SERVICES

5.1 First-Class Mail and Priority Mail

* * * * *

[Revise item e to read as follows:]

e. “Change Service Requested” is not permitted for the following:

(1) Priority Mail, other than Priority Mail containing perishable matter under C022 (except for live animals).

(2) First-Class Mail or Priority Mail containing hazardous materials under C023.

(3) First-Class Mail or Priority Mail with a special service other than Delivery Confirmation or Signature Confirmation.

Exhibit 5.1 Treatment of Undeliverable First-Class Mail and Priority Mail

[Revise the listing for “Change Service Requested” to read as follows:]

Mailer endorsement | USPS treatment of UAA pieces
* * * * * * *
“Change Service Requested” ² | Option 1 ² In all cases (regardless of whether a change-of-address order is on file): Separate notice of new address or reason for nondelivery provided (in either case, address correction fee charged); piece disposed of by USPS.
| Option 2 ²
| If no change-of-address order on file: Piece disposed of by USPS; separate notice of reason for nondelivery provided (address correction fee charged).
| If change-of-address order on file:
| Months 1 through 12: piece forwarded (no charge); separate notice of new address provided (address correction fee charged).
| Months 13 through 18: piece disposed of by USPS; separate notice of new address provided (address correction fee charged).
| After month 18: piece disposed of by USPS; separate notice of reason for nondelivery provided (address correction fee charged).
| Restrictions (for Options 1 and 2): The following restrictions apply:
| (1) This endorsement is limited to use on valid mailpieces bearing a proper ACS participant code and only for: (a) Priority Mail containing perishable matter (other than live animals) and the marking “Perishable” and; (b) First-Class Mail (excluding hazardous materials).
| (2) Delivery Confirmation and Signature Confirmation are the only special services permitted with this endorsement.
* * * * * * *

* * * * *

[Revise the text of footnote 2 to read as follows:]

2. Valid only for ACS participating pieces (subject to F030) other than pieces containing hazardous materials.

* * * * *

5.3 Standard Mail

* * * * *

[Reletter current items c through j as new items d though k, and add new item c to read as follows:]

c. The endorsement “Change Service Requested” is not permitted for Standard Mail containing hazardous materials under C023. Standard Mail containing hazardous materials must bear the endorsement “Address Service Requested,” “Forwarding Service Requested,” or “Return Service Requested.”

* * * * *

Exhibit 5.3a Treatment of Undeliverable Standard Mail

[Revise the listings for “No endorsement”, “Address Service Requested”, and “Change Service Requested” to read as follows:]

Mailer endorsement | USPS treatment of UAA pieces
No endorsment ¹ | In all cases: Piece disposed of by USPS.
| Restrictions: Standard Mail containing hazardous materials must bear a permissible endorsement (see 5.3e).
“Address Service Requested” ² | * * * * *
* * * * * * *
“Change Service Requested” ¹,³ | In all cases: Separate notice of new address or reason for nondelivery provided (in either case, address correction fee charged); piece disposed of by USPS.
| Restrictions: The following restrictions apply:
| (1) Delivery Confirmation is the only special service permitted with this endorsement.
| (2) This endorsement is not permitted for Standard Mail containing hazardous materials.

[Renumber footnote 1 as 2, and add new footnotes 1 and 3, to read as follows:]

1. Not valid for pieces containing hazardous materials.

2. Valid for all pieces, including Address Change Service (ACS) participating pieces.

3. Not valid for pieces containing hazardous materials. Valid for all other pieces, including ACS participating pieces.

* * * * *

5.4 Package Services

* * * * *

[Reletter current items c through e as new items d through f, and add new item c to read as follows:]

c. The endorsement “Change Service Requested” is not permitted for Package Services mail containing hazardous materials under C023.

* * * * *

Exhibit 5.4 Treatment of Undeliverable Package Services Mail

[Revise the listing for “Change Service Requested” to read as follows:]

Mailer endorsement | USPS treatment of UAA pieces
* * * * * * *
“Change Service Requested” ² | In all cases: Separate notice of new address or reason for nondelivery provided (in either case, address correction fee charged); piece disposed of by USPS.
| Restrictions: The following restrictions apply: (1) Delivery Confirmation and Signature Confirmation are the only special services permitted with this endorsement. (2) This endorsement is not permitted for Package Services Mail containing hazardous materials.

* * * * *

[Add new footnote 2 to read as follows:]

2. Not valid for pieces containing hazardous materials. Valid for all other pieces, including ACS participating pieces.

* * * * *

An appropriate amendment to 39 CFR part 111 to reflect these changes will be published.

Neva Watson,
Attorney, Legislative.

[FR Doc. 03-14185 Filed 6-5-03; 8:45 am]

BILLING CODE 7710-12-P